DEPARTMENT OF HEALTH AND HUMAN SERVICES

Food and Drug Administration

[Docket No. FDA-2025-N-0008]

Arthritis Advisory Committee; Termination

AGENCY: Food and Drug Administration, HHS.

ACTION: Notice.

SUMMARY: The Food and Drug Administration (FDA or the Agency) is announcing the termination of the Agency's Arthritis Advisory Committee (Committee) by the Commissioner of Food and Drugs (Commissioner). The Commissioner has determined that it is not necessary to continue to maintain this Committee.

DATES: This Committee will terminate on the date of publication of this notice.

FOR FURTHER INFORMATION CONTACT: Emily Helms Williams, Director, Advisory Committee Oversight and Management Staff, Office of the Chief Scientist, Food and Drug Administration, 10903 New Hampshire Ave., Bldg. 1, Rm. 3240, Silver Spring, MD 20993, 301-796-3381, Emily.HelmsWilliams@fda.hhs.gov.

SUPPLEMENTARY INFORMATION: The Arthritis Advisory Committee was established on April 5, 1974 (39 FR 14737-14738), to advise the Commissioner or designee in discharging responsibilities as they relate to helping to ensure safe and effective drugs for human use in arthritic conditions, and as required, any other product for which FDA has regulatory responsibility. This Committee has met infrequently in recent years, and FDA has determined that the effort and expense of maintaining the Committee is no longer justified. This Committee is therefore terminated, effective on July 30, 2025, in accordance with 21 CFR 14.55. This notice is issued under the Federal Advisory Committee Act of October 6, 1972 (Pub. L. 92-463) (5 U.S.C. 1001 et seq.). Elsewhere in this issue of the Federal Register, FDA is publishing a final rule announcing the removal of the Arthritis Advisory Committee from the Agency's list of standing advisory committees.

Dated: July 25, 2025.
Grace R. Graham,
Deputy Commissioner for Policy, Legislation, and International Affairs.

[FR Doc. 2025-14345 Filed 7-29-25; 8:45 am]

BILLING CODE 4164-01-P